DEPARTMENT OF HEALTH AND HUMAN SERVICES

Office of Child Support Enforcement

45 CFR Parts 309 and 310

Tribal Child Support Enforcement Program

AGENCY: Office of Child Support Enforcement, Administration for Children and Families, Department of Health and Human Services.

ACTION: Notice of open consultation.

SUMMARY: Notice is hereby given for the dates and locations for one informational meeting and three Tribal consultations on the Computerized Tribal IV-D Systems and Office Automation Notice of Proposed Rulemaking (NPRM). On June 11, 2008, the Federal Register will publish an NPRM that would enable Tribes and Tribal organizations currently operating a comprehensive Tribal Child Support Enforcement program under Title IV-D of the Social Security Act (the Act) to apply for and receive direct Federal funding for the costs of child support automated data processing. This proposed rule addresses the Secretary's commitment to provide instructions and guidance to Tribes and Tribal organizations on requirements for applying for, and upon approval, securing Federal Financial Participation (FFP) under the Tribal IV-D program in the costs of installing, operating, maintaining, and enhancing child support automated data processing systems.

The public comment period for this regulation will be 60 days from the date of the publication of the NPRM. The Federal Office of Child Support Enforcement (OCSE) will host one meeting to introduce the proposed rule and three consultations to receive public comment on the proposed rule. This notification provides specific information for the informational meeting and consultations.

DATES: The informational meeting will be held on June 11, 2008 in Cherokee, North Carolina and will begin promptly at 9:15 a.m. and end at 12:30 p.m. The consultations will be held June 27, 2008 in Seattle, Washington; July 8, 2008 in Catoosa, Oklahoma and July 9, 2008 in Milwaukee, Wisconsin. The consultation in Seattle, Washington will begin promptly at 10 a.m. and end at 3 p.m. with an hour lunch break. The consultation in Catoosa, Oklahoma will begin at 10 a.m. and end at 3 p.m. with an hour lunch break. The consultation in Milwaukee, Wisconsin will begin at 1 p.m. and end at 5 p.m. Please note that participants must arrange and pay for their own travel, lodging, meals and incidental expenses.

ADDRESSES: The informational meeting will be held at Harrah's Cherokee Casino and Hotel, 777 Casino Drive, in Cherokee, North Carolina 28719. The telephone number for hotel reservations is (828) 497-7777. The first consultation, June 27, 2008, will be held at the Administration for Children and Families (ACF) Region X Federal Facility, 2201 6th Avenue, Suites 204-205, in Seattle, Washington 98121. Participants may be required to present a government issued photo ID in order to enter the ACF Region X Federal Facility. The second consultation, July 8, 2008, will be held at the Cherokee Casino Resort Hotel, 777 West Cherokee Street in Catoosa, Oklahoma 74015. The telephone number for hotel reservations is (918) 266-6700. The third consultation, July 9, 2008, will be held at Potawatomi Bingo & Casino in Milwaukee, Wisconsin 74015. The telephone number for hotel reservations is (414) 389-1298. These are not toll-free numbers. All interested parties are invited to attend these public consultations. Seating may be limited and will be available on a first-come, first-serve basis. Persons needing special assistance should contact the Division of Special Staffs, OCSE, at the address listed below.

FOR FURTHER INFORMATION CONTACT: Ms. Tanesha Canzater, Division of Special Staffs, OCSE, Fourth Floor East, 370 L'Enfant Promenade, SW., Washington, DC 20447 (telephone (202) 205-4922; or e-mail tanesha.canzater@acf.hhs.gov) or Ms. Donna McBurnett, Division of Special Staffs, OCSE, Fourth Floor East, 370 L'Enfant Promenade, SW., Washington, DC 20447 (telephone (202) 401-5746; or e-mail dmmcburnett@acf.hhs.gov). These are not toll-free numbers.

SUPPLEMENTARY INFORMATION: The purpose of these consultations is to provide an overview of the proposed regulation and to elicit public comment. Persons who attend the consultations may make oral presentations and/or provide written comments for the record at the consultation. We strongly encourage persons who make oral presentations at the consultations to submit written comments in support of their presentations.

Public Participation: Individuals who wish to make an oral presentation on these proposed rules at any of the meetings are welcome to do so. Attendees must register at the meeting site and identifying information about prospective presenters will be recorded, such as name, organization (if any), address, and telephone number, so that presenters can be accurately identified and properly introduced at the consultations. Persons who are registered will make their presentations first; then, as time allows, persons who did not register will make their presentations. Presentations must be about the proposed rule, should be specific, and should include specific recommendations for changes where appropriate. In fairness to other participants, presentations should be concise and will be limited to a maximum of 10 minutes each. The order of persons making such presentations will be the order in which the requests are received.

At the meetings, OCSE cannot address participants' concerns regarding the proposed rules, or respond to questions about the proposed rules other than questions asking for clarification. It is expected that individuals attending these meetings will have read the NPRM. OCSE will consider comments and recommendations provided at the consultations, and written comments and recommendations submitted as we prepare the final version of these regulations.

Minutes of the public meeting will be available for public inspection and copying at the Department of Health and Human Services (HHS) 14 days after the conclusion of the consultations. At HHS, these documents will be available through the Director, Division of Special Staffs, ACF, 370 L'Enfant Promenade, SW., Washington, DC from 9 a.m. to 5 p.m. Questions regarding the availability of the minutes should be directed to Ms. Tanesha Canzater, Division of Special Staffs, OCSE, Fourth Floor East, 370 L'Enfant Promenade, SW., Washington, DC 20447 (telephone (202) 205-4992). This is not a toll-free number.

Margot Bean,
Commissioner, Office of Child Support Enforcement.

[FR Doc. E8-13073 Filed 6-9-08; 8:45 am]

BILLING CODE 4184-01-P